DEPARTMENT OF TRANSPORTATION

Federal Aviation Administration

14 CFR Part 39

[Docket No. 2002-NM-58-AD; Amendment 39-13607; AD 2004-09-18]

RIN 2120-AA64

Airworthiness Directives; BAE Systems (Operations) Limited (Jetstream) Model 4101 Airplanes

AGENCY: Federal Aviation Administration, DOT.

ACTION: Final rule.

SUMMARY: This amendment adopts a new airworthiness directive (AD), applicable to all BAE Systems (Operations) Limited (Jetstream) Model 4101 airplanes, that requires repetitively inspecting the seat rails located in the passenger cabin for evidence of damage and corrosion, repairing any damage or corrosion, and replacing any floor panels found to be “soft” due to ingress of moisture. This action is necessary to detect and correct corrosion on the seat rails for the passenger seats, which could result in the reduced structural integrity of the passenger seats, detachment of the seats from the seat rails, and injury to passengers. This action is intended to address the identified unsafe condition.

DATES: Effective June 9, 2004.

The incorporation by reference of a certain publication listed in the regulations is approved by the Director of the Federal Register as of June 9, 2004.

ADDRESSES: The service information referenced in this AD may be obtained from British Aerospace Regional Aircraft American Support, 13850 Mclearen Road, Herndon, Virginia 20171. This information may be examined at the Federal Aviation Administration (FAA), Transport Airplane Directorate, Rules Docket, 1601 Lind Avenue, SW., Renton, Washington; or at the National Archives and Records Administration (NARA). For information on the availability of this material at NARA, call 202-741-6030, or go to: http://www.archives.gov/federal_register/code_of_federal_regulations/ibr_locations.html.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: A proposal to amend part 39 of the Federal Aviation Regulations (14 CFR part 39) to include an airworthiness directive (AD) that is applicable to all BAE Systems (Operations) Limited (Jetstream) Model 4101 airplanes was published in the Federal Register on September 25, 2003 (68 FR 55321). That action proposed to require repetitively inspecting the seat rails located in the passenger cabin for evidence of damage and corrosion, repairing any damage or corrosion, and replacing any floor panels found to be “soft” due to ingress of moisture.

Comments

Interested persons have been afforded an opportunity to participate in the making of this amendment. Due consideration has been given to the comments received from a single commenter.

Request To Withdraw Proposed AD

The commenter, an operator, states that the proposed AD is an unnecessary burden to operators. The commenter suggests that instead of an issuing an AD, the maintenance review board (MRB) report be revised to include the actions required by the proposed AD. The commenter states that it currently performs numerous corrosion inspections on its fleet of Jetstream Model 4101 airplanes using procedures specified in the commenter's maintenance programs. The commenter also notes that BAE Systems (Operations) Limited Service Bulletin J41-53-050, dated January 25, 2002, specifies that when the inspection and procedure recommended in the service bulletin are published in the MRB report and the maintenance planning document (MPD), the service bulletin will be canceled.

The FAA infers that the commenter is requesting that the proposed AD be withdrawn. We do not agree. The procedures specified in MRB reports are not mandatory. Therefore, we must issue an AD to ensure that the identified unsafe condition is properly addressed. We acknowledge that some operators may currently have maintenance programs which address the unsafe condition. If a program is adequate, an operator would already be in compliance with the AD, or would be in a position to obtain approval for an alternative method of compliance with the AD (i.e., to follow the operator's current program rather than revise it to comply with the AD). Our obligation to issue the AD and address an unsafe condition remains, however; the rule must apply to everyone to ensure that all affected airplanes are covered, regardless of who operates them. Furthermore, the airworthiness authority for the state of design issued an airworthiness directive mandating the same actions required by this AD.

Request To Revise Cost Impact Information

The commenter notes that the figure in the cost impact section of the proposed AD does not include incidental costs, such as the time required to gain access and close up an airplane. The commenter states that these costs are not incidental, and that the majority of time required to perform the detailed inspection required by the proposed AD involves removing and reinstalling the lavatory, galley, passenger cabin seats, carpets, and cabin floor panels, to gain access to and close up the areas to be inspected. The commenter also states that 30 work hours to perform the detailed inspection is not a true depiction of the required man hours, and that 300 work hours would be more accurate.

We infer that the commenter is requesting that the cost impact section of the proposed AD be revised. We do not agree. As stated in the proposed AD, “the figures discussed in AD rulemaking actions represent only the time necessary to perform the specific actions actually required by the AD. These figures typically do not include incidental costs, such as the time required to gain access and close up, planning time, or time necessitated by other administrative actions.” The specific action required by the proposed AD is a repetitive detailed inspection of the seat rails located in the passenger cabin. The time necessary for gaining access to and closing the inspection area is incidental. The final rule has not been changed regarding this issue.

Conclusion

After careful review of the available data, including the comments noted above, we have determined that air safety and the public interest require the adoption of the rule as proposed.

Cost Impact

The FAA estimates that 57 airplanes of U.S. registry will be affected by this AD, that it will take approximately 30 work hours per airplane to accomplish the required inspection, and that the average labor rate is $65 per work hour. Based on these figures, the cost impact of the AD on U.S. operators is estimated to be $111,150, or $1,950 per airplane, per inspection cycle.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-09-18 BAE Systems (Operations) Limited (Formerly British Aerospace Regional Aircraft): Amendment 39-13607. Docket 2002-NM-58-AD.

Applicability: All Model Jetstream 4101 airplanes, certificated in any category.

Compliance: Required as indicated, unless accomplished previously.

To detect and correct corrosion on the seat rails for the passenger seats, which could result in the reduced structural integrity of the passenger seats, detachment of the seats from the seat rails, and injury to passengers, accomplish the following:

Inspection and Corrective Actions

(a) Within 1 year after the effective date of this AD, do a detailed inspection of the seat rails located in the passenger cabin, two above and two below the floor panels, for evidence of damage (missing paint from the frames or support angles) or corrosion, in accordance with the Accomplishment Instructions of BAE Systems (Operations) Limited Service Bulletin J41-53-050, dated January 25, 2002.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) If no damage (missing paint from the frames or support angles) or corrosion is found, repeat the detailed inspection thereafter at intervals not to exceed 2 years.

(2) If any damage (missing paint from the frames or support angles) is found, before further flight, re-protect the area per the Accomplishment Instructions of the service bulletin. Repeat the detailed inspection thereafter at intervals not to exceed 2 years.

(3) If any corrosion is found, before further flight, repair in accordance with the Accomplishment Instructions of the service bulletin. Where the service bulletin specifies that the manufacturer may be contacted for disposition of certain repair conditions, repair per a method approved by either the Manager, International Branch, ANM-116, FAA, Transport Airplane Directorate; or the Civil Aviation Authority (or its delegated agent). Repeat the detailed inspection thereafter at intervals not to exceed 2 years.

(b) During any inspection required by paragraph (a) of this AD: If any floor panels are found to be “soft” due to ingress of moisture, before further flight, replace them in accordance with the Accomplishment Instructions of BAE Systems (Operations) Limited Service Bulletin J41-53-050, dated January 25, 2002.

Submission of Information to the Manufacturer Not Required

(c) Although the service bulletin referenced in this AD specifies to submit information to the manufacturer, this AD does not include such a requirement.

Alternative Methods of Compliance

(d) In accordance with 14 CFR 39.19, the Manager, International Branch, ANM-116, FAA, is authorized to approve alternative methods of compliance for this AD.

Incorporation by Reference

(e) Unless otherwise specified in this AD, the actions shall be done in accordance with BAE Systems (Operations) Limited Service Bulletin J41-53-050, dated January 25, 2002. This incorporation by reference was approved by the Director of the Federal Register in accordance with 5 U.S.C. 552(a) and 1 CFR part 51. Copies may be obtained from British Aerospace Regional Aircraft American Support, 13850 Mclearen Road, Herndon, Virginia 20171. Copies may be inspected at the FAA, Transport Airplane Directorate, 1601 Lind Avenue, SW., Renton, Washington; or at the National Archives and Records Administration (NARA). For information on the availability of this material at NARA, call 202-741-6030, or go to: http://www.archives.gov/federal_register/code_of_federal_regulations/ibr_locations.html.

Note 2: The subject of this AD is addressed in British airworthiness directive 005-01-2002.

Effective Date

(f) This amendment becomes effective on June 9, 2004.

Issued in Renton, Washington, on April 26, 2004.
Kalene C. Yanamura,
Acting Manager, Transport Airplane Directorate, Aircraft Certification Service.

[FR Doc. 04-10020 Filed 5-4-04; 8:45 am]

BILLING CODE 4910-13-P